DEPARTMENT OF EDUCATION

Office of Special Education and Rehabilitative Services—Capacity Building Program for Traditionally Underserved Populations: Technical Assistance for American Indian Vocational Rehabilitation Services Projects

Catalog of Federal Domestic Assistance (CFDA) Number: 84.406.

AGENCY: Office of Special Education and Rehabilitative Services, Department of Education.

ACTION: Notice of proposed priority.

SUMMARY: The Assistant Secretary for Special Education and Rehabilitative Services proposes a priority under the Capacity Building program for Traditionally Underserved Populations to fund a grant that will establish a training and technical assistance center to support the projects funded under the American Indian Vocational Rehabilitation Services (AIVRS) program authorized under section 121 of the Rehabilitation Act of 1973, as amended (Act). The purpose of this center is to improve the provision of vocational rehabilitation (VR) services to, and the employment outcomes of, American Indians with disabilities through the provision of training and technical assistance to projects funded under the AIVRS program. The Assistant Secretary may use this priority for competitions in fiscal year 2010 and later years.

DATES: We must receive your comments on or before December 14, 2009.

ADDRESSES: Address all comments about this notice to Ellen Chesley, U.S. Department of Education, 400 Maryland Avenue, SW., Room 5018, Potomac Center Plaza, Washington, DC 20202-2800. If you prefer to send your comments by e-mail, use the following address: Ellen.Chesley@ed.gov. You must include the term “Capacity Building: Technical Assistance for AIVRS Projects” in the subject line of your electronic message.

FOR FURTHER INFORMATION CONTACT: Ellen Chesley. Telephone: (202) 245-7300 or by e-mail: Ellen.Chesley@ed.gov.

If you use a telecommunications device for the deaf (TDD), call the Federal Relay Service (FRS), toll free, at 1-800-877-8339.

SUPPLEMENTARY INFORMATION: Invitation to Comment: We invite you to submit comments regarding this notice.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in Room 5018, Potomac Center Plaza, 550 12th Street, SW., Washington, DC, between the hours of 8:30 a.m. and 4 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The Capacity Building Program for Traditionally Underserved Populations under section 21(b)(2)(C) of the Act (29 U.S.C. 718(b)(2)(C)) provides outreach and technical assistance to minority entities and American Indian tribes in order to enhance their capacity to carry out activities funded under the Act and to promote their participation in activities funded under the Act.

Program Authority: 29 U.S.C. 718(b)(2)(C).

Proposed Priority

This notice contains one proposed priority.

Capacity Building Program for Traditionally Underserved Populations: Technical Assistance for American Indian Vocational Rehabilitation Services Projects.

Background

According to the 2000 U.S. Census data, there are approximately 2.5 million United States citizens who have identified themselves as either American Indian or Alaskan Natives and, of that number, more than 550,000 have disabilities. In addition, section 21(a)(2) of the Act (29 U.S.C. 718(a)(2)) states that the rate of work-related disability for American Indians is about one and one-half times that of the general population.

The AIVRS program authorizes grants to the governing bodies of Indian tribes located on Federal and State reservations, and consortia of such governing bodies, to carry out VR service projects for American Indians with disabilities residing on or near such reservations (CFDA 84.250A). The Department currently funds 77 of these projects. The purpose of these projects is to provide VR services to American Indians with disabilities, consistent with their individual strengths, resources, priorities, concerns, abilities, capabilities, interests, and informed choice, so that they may prepare for and engage in gainful employment, including self-employment, telecommuting, and business ownership.

The Department's Rehabilitation Services Administration (RSA), which oversees the administration of the AIVRS projects, has identified specific areas requiring technical assistance and training. These include, but are not limited to: Understanding the role and impact of the VR counselor and other key personnel on the provision of VR services to American Indians with disabilities; understanding and applying Federal rules, regulations, and guidance applicable to the AIVRS program; and implementing appropriate financial management practices, including expending grant funds in a timely manner.

An assessment of the training and technical assistance needs of AIVRS projects conducted in 2002 by the Human Resource Committee of the Consortium of Administrators of Native American Rehabilitation (CANAR) identified similar training and technical assistance needs, including the need for assistance with program and financial management and strategies to improve staff recruitment and retention.

The Department also supported an independent evaluation of the AIVRS program conducted in 2000 and 2001 that identified a number of technical assistance needs. The final report, published in 2002, contained several technical assistance related recommendations, including the need for the development of: (1) Orientation materials and training for new AIVRS projects; (2) training guidelines for AIVRS counselors with limited backgrounds in vocational rehabilitation; (3) monitoring and evaluation guidelines for AIVRS projects to strengthen internal project assessment and reporting; and (4) strategies to increase communication and cooperation between State VR agencies and AIVRS projects. (Evaluation of the American Indian Vocational Rehabilitation Services Program, June 2002, http://www.ed.gov/policy/speced/leg/rehab/eval-studies.html#aivrs).

The Department currently supports ten regional Technical Assistance and Continuing Education (TACE) Centers that provide technical assistance and continuing education to State VR agencies and other entities that partner with State VR agencies (partners). While AIVRS grantees are included among the many partners eligible for TACE services, the TACE Centers give highest priority to addressing State VR agency needs that are identified through RSA's monitoring process and partner needs that directly relate to the performance and compliance of State VR agencies. Therefore, TACE Centers may not have the capacity or resources to address directly the training and technical assistance needs of the AIVRS grantees identified in this notice.

Additionally, RSA conducted three technical assistance and training forums for AIVRS grantees in the past two years in centralized geographical areas around the United States.

Despite the existing training and technical assistance resources, more intensive training and technical assistance is needed and RSA believes it would be more efficient and cost effective to provide such support through a technical assistance center that is focused on the needs of AIVRS projects in order to improve outcomes for American Indians with disabilities.

Through the ARRA, Congress has appropriated $140,000,000 for the Independent Living programs under Title VII of the Rehabilitation Act of 1973, as amended (the Act) to be obligated by FY 2010. Under section 21(b)(1) of the Act, the Department is required to reserve 1 percent of the funds appropriated for the fiscal year for programs authorized under title VII (and other titles of the Act, but title VII was the only one to receive ARRA funding) to carry out section 21, the purpose of which is to provide grants to eligible entities to increase the capacity of traditionally underserved populations to participate in the activities funded under the Act. Section 21(b)(2)(C) of the Act makes awards to eligible entities to provide outreach and technical assistance to minority entities and American Indian tribes in order to enhance their capacity to carry out and to promote their participation in activities funded under the Act. For the reasons discussed in this notice, the Department intends to propose a priority under this authority to fund a grant that will establish a training and technical assistance center to support AVIRS projects.

Proposed Priority

The Assistant Secretary for Special Education and Rehabilitative Services proposes a priority to support a technical assistance center under section 21(b)(2)(C) of the Rehabilitation Act of 1973, as amended (the Act) to improve project management and the delivery of VR services to American Indians with disabilities under the American Indian Vocational Rehabilitation Services (AIVRS) program. The Department intends to award this grant as a cooperative agreement to ensure that there is substantial involvement (i.e., significant communication and collaboration) between RSA and the grantee in carrying out the activities of the Center. (34 CFR 75.200(b)(4))

In coordination with the Department, the Center must—

(1) Provide training and technical assistance to AIVRS grantees to improve their understanding of the principles, requirements, and practices that serve as the foundation of the VR process and VR service provision, (e.g., the determination of eligibility, the development of individualized plans for employment, and the requirement to provide informed consumer choice);

(2) Provide comprehensive training to AIVRS staff on the regulatory requirements and grants management practices that are necessary for the proper administration of AIVRS projects including, but not limited to, requirements found in 34 CFR parts 369 and 371 and the Education Department General Administrative Regulations (EDGAR);

(3) Provide comprehensive training on requirements and practices associated with fiscal management found in EDGAR, the cost principles of Office of Management and Budget (OMB) Circular A-87, and general fiscal management practices;

(4) Provide guidance on the need to utilize community resources and build relationships with the State VR agency in order to expand the ranges of the employment choices available for consumers and of the financial resources the project can leverage in order to provide the services the consumer needs;

(5) Provide training on how the AIVRS projects can improve inter- and intra-tribal communication regarding confidentiality and the development of cooperative agreements with State VR agencies and Federal entities (e.g., the Department of Interior and the Bureau of Indian Affairs);

(6) Provide technical assistance on methods associated with measuring project performance, including the development of goals, performance measures, and efficiency models, and on the reporting of performance data;

(7) Identify other technical assistance and training needs of the AIVRS projects; and

(8) Provide technical assistance to build an infrastructure that sustains training and technical assistance for these projects.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

We have also determined that this regulatory action does not unduly interfere with State, local, and tribal governments in the exercise of their governmental functions.

Executive Order 13175: Executive Order 13175 (“Consultation and Coordination with Indian Tribal Governments”) provides that each Federal agency must have an accountable process to ensure regular and meaningful consultation and collaboration with Indian tribal governments or their representative organizations in the development of regulatory policies that have tribal implications. Because Indian tribal governments will be the beneficiaries of any project funded under this priority and because Indian tribal governments are eligible applicants for any award made using this priority, we are specifically inviting input from Indian tribal officials concerning this notice of proposed priority as part of the process of consultation required by the Executive order.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to this Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services, to perform the functions of the Assistant Secretary for Special Education and Rehabilitative Services.

Dated: November 6, 2009.
Andrew J. Pepin,
Executive Administrator for Special Education and Rehabilitative Services.

[FR Doc. E9-27197 Filed 11-10-09; 8:45 am]

BILLING CODE 4000-01-P